DEPARTMENT OF JUSTICE

Notice of Lodging of Consent Decree Pursuant to the Comprehensive Environmental Response Compensation and Liability Act (“CERCLA”)

Notice is hereby given that on February 11, 2009, a proposed Consent Decree in United States v. Bristol Myers Squibb Company, et al., CIV No. 09-cv-0161 (N.D.N.Y.) was lodged with the United States District Court for the Northern District of New York.

The proposed Consent Decree is between the United States on behalf of the United States Environmental Protection Agency (“EPA”) and Bristol-Myers Squibb Company, General Electric Company, International Business Machines Corporation, and Pass & Seymour, Inc. (Settling Defendants). The proposed Consent Decree resolves claims against the Settling Defendants under Sections 106, 107, and 113 of the Comprehensive Environmental Response, Compensation, and Liability Act, as amended (“CERCLA”), 42 U.S.C. 9606, 9607, 9613 related to the Solvent Savers Superfund Site in Lincklaen, Chenango County, New York. Under the proposed Consent Decree, the Settling Defendants agree to design, construct and operate groundwater remedies for the Site, estimated to cost $9.9 million, and a soil remedy including treatment of VOC's and PCBs for an estimated $4.9 million, and to pay EPA's future oversight costs. In return, the Decree provides the Settling Defendants with a covenant not to sue under CERCLA §§ 106 and 107(a) for the performance and costs of this work and for oversight costs.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Bristol Myers Squibb Company, (N.D.N.Y.) No. 09-cv-0161, D.J. Ref. 90-11-3-704/1.

The Consent Decree may be examined at the Office of the United States Attorney, Northen District of New York, Suite 900, 100 S. Clinton St., Syracuse, NY 13261-7198 and at the Environmental Protection Agency, Region 2, Office of Regional Counsel, 290 Broadway, New York, New York 10007-1866. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury.

Ronald Gluck,
Assistant Chief, Environmental Enforcement Section, Environment and Natural Resources Division.

[FR Doc. E9-3802 Filed 2-20-09; 8:45 am]

BILLING CODE 4410-15-P